DEPARTMENT OF COMMERCE

International Trade Administration

[A-570-898]

Chlorinated Isocyanurates From the People's Republic of China: Notice of Extension of Time Limit for Final Results of Semi-Annual New Shipper Review

AGENCY: Import Administration, International Trade Administration, Department of Commerce.

DATES: Effective Date: October 13, 2009.

FOR FURTHER INFORMATION CONTACT: Lilit Astvatsatrian, AD/CVD Operations, Office 8, Import Administration, International Trade Administration, U.S. Department of Commerce, 14th Street and Constitution Avenue, NW., Washington, DC 20230; telephone: (202) 482-6412.

Background

On July 27, 2009, the Department of Commerce (“the Department”) published the preliminary results of a semi-annual new shipper review of the antidumping duty order on chlorinated isocyanurates from the People's Republic of China, covering the period June 1, 2008, through November 30, 2008, and the exporter, Juancheng Kangtai Chemical co., Ltd. (“Kangtai”). See Chlorinated Isocyanurates from the People's Republic of China: Preliminary Results of June 2008 through November 2008 Semi-Annual New Shipper Review, 74 FR 37007 (July 27, 2009). The final results are currently due on October 18, 2009.

Extension of Time Limits for Final Results

Section 751(a)(2)(B)(iv) of the Tariff Act of 1930, as amended (“the Act”), and 19 CFR 351.214(i)(1) require the Department to issue the final results of a new shipper review within 90 days after the date on which the preliminary results were issued. The Department may, however, extend the 90-day period for completion of the final results of a new shipper review to 150 days if it determines that the case is extraordinarily complicated. See section 751(a)(2)(B)(iv) of the Act and 19 CFR 351.214(i)(2).

As a result of issues raised in this new shipper review, specifically the issue of collapsing Kangtai into a single entity with its affiliated supplier, certain surrogate values, and surrogate financial ratios, the Department determines that this new shipper review is extraordinarily complicated and it cannot complete this new shipper review within the current time limit. Accordingly, the Department is extending the time limit for the completion of the final results by 60 days until December 17, 2009, in accordance with sections 751(a)(2)(B)(iv) of the Act and 19 CFR 351.214(i)(2).

We are issuing and publishing this notice in accordance with sections 751(a)(2)(B) and 777(i)(1) of the Act.

Dated: October 6, 2009.
John M. Andersen,
Acting Deputy Assistant Secretary for Antidumping and Countervailing Duty Operations.

[FR Doc. E9-24600 Filed 10-9-09; 8:45 am]

BILLING CODE 3510-DS-P